DEPARTMENT OF AGRICULTURE

Forest Service

Information Collection; Baseline and Trend Information on Wilderness Use and Users

AGENCY: Forest Service, USDA.

ACTION: Notice; request for comment.

SUMMARY: In accordance with the Paperwork Reduction Act of 1995, the Forest Service is seeking comments from all interested individuals and organizations on the extension of an existing information collection that has, since 1990, collected data about wilderness recreation users in the United States. The information is necessary to help the Forest Service and other Federal wilderness management agencies meet the needs and expectations of visitors, who look to the National Wilderness Preservation System for recreational experiences that are dependent upon natural wilderness conditions away from human development and devoid of crowds. Respondents will be visitors, or potential visitors, to the National Wilderness Preservation System.

DATES: Comments must be received in writing on or before January 27, 2003.

ADDRESSES: Written comments concerning this notice should be addressed to Forest Service, USDA, Attn: Alan Watson, Aldo Leopold Wilderness Research Institute, P.O. Box 8089, Missoula, Montana 59807. Comments may also be sent via e-mail to awatson@fs.fed.us.

FOR FURTHER INFORMATION CONTACT: Alan Watson, Aldo Leopold Wilderness Research Institute, (406) 542-4197.

Individuals who use telecommunication devices for the deaf (TDD) may call the Federal Information Relay Service (FIRS) at 1-800-877-8339 between 8:00 a.m. and 8:00 p.m., Eastern Standard Time, Monday through Friday.

SUPPLEMENTARY INFORMATION: The Forest Service is seeking an extension of an existing information collection authorized under Office of Management and Budget Control Number 0596-0108. This information collection approval allows the Forest Service to collect information from visitors, or potential visitors, to the lands of the National Wilderness Preservation System.

The Wilderness Act of 1964 directs that the National Wilderness Preservation System be managed to protect natural wilderness conditions and to provide outstanding opportunities for the public to find solitude or primitive and unconfined types of recreational experiences.

To meet the requirements of the Wilderness Act of 1964 and to help the Forest Service enhance visitors' recreational experiences, the agency monitors trends of visitor recreational activities. Forest Service personnel also want to ensure that visitors' recreational activities do not harm the natural resources of the National Wilderness Preservation System. The agency is expanding the scope of the survey to include wilderness areas about which the agency has little information in regard to visitor recreational trends.

The Forest Service will use information from this collection to: (1) Establish visitor recreational use baselines; (2) monitor visitor recreational use trends; (3) gain an understanding of how the agency's management of the National Wilderness Preservation System influences a visitor's wilderness experience; and (4) help understand how to educate visitors, so that they may enjoy their wilderness experience without leaving permanent reminders of their visits, such as damaged vegetation, litter, and polluted streams. The information also will be used for planning management direction for various wilderness areas managed by the agencies in the Departments of Agriculture and Interior.

Data from this information collection are not available from other sources and will be maintained at the interagency (Agriculture and Interior) Aldo Leopold Wilderness Research Institute in Missoula, Montana.

Description of Information Collection

The following describes the information collection to be extended:

Title: Baseline and Trend Information on Wilderness Use and Users.

OMB Number: 0596-0108.

Expiration Date of Approval: January 31, 2003.

Type of request: Extension of a currently approved information collection.

Abstract: Respondents will be visitors, or potential visitors, to the National Wilderness Preservation System (System). Forest Service personnel will conduct face-to-face, on-site interviews with visitors as they enter the System or will send mailback survey forms to visitors at their homes using addresses that visitors provide when visiting the System. Forest Service personnel will contact visitors at nonwilderness sites to ask if they have plans to visit the System. When unable to conduct face-to-face interviews with potential visitors, the agency will send mailback survey forms to the homes of those who visited nonwilderness areas, using addresses provided by them as they entered the nonwilderness sites. In some cases, the agency forms will be made available on a self-service basis to visitors in trailhead displays.

Respondents will be asked questions that include how many times they visit, when they plan their next visit, or if they plan to visit at all. Respondents will be asked, when visiting, if they come in groups and, if so, the size of those groups. Respondents will be asked how long they stay when visiting. Do they use equipment, such as stoves, or use wood for fires while visiting? Do they have preferences for social conditions? For example, do they like or will they accept crowded conditions, such as crowded camping areas and areas designed to limit the negative effects of visitor use on natural resources, such as soil compaction, damage to tree roots, and negative impacts to water quality? Do respondents support various wilderness management strategies (such as limiting visitor use of wilderness areas) to lessen negative effects to the wilderness environment? Do they support separating uses (such as designating some campsites for use only by groups with pack animals) to avoid conflict?

Estimate of Annual Burden: 15 minutes.

Types of Respondents: Visitors or potential visitors to the National Wilderness Preservation System.

Estimated Annual Number of Respondents: 3,000.

Estimated Annual Number of Responses per Respondent: 1.

Estimated Total Annual Burden on Respondents: 750 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including name and address when provided, will become a matter of public record. Comments received in response to this notice will be summarized and included in the request for Office of Management and Budget approval.

Dated: November 20, 2002.
Robert Lewis, Jr.,
Deputy Chief, Research and Development.

[FR Doc. 02-30017 Filed 11-26-02; 8:45 am]

BILLING CODE 3410-11-P